DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on Monday, December 4, 2006, from 9 a.m. until approximately 5:30 p.m.; on Tuesday, December 5, 2006, from 8:30 a.m. until approximately 5:30 p.m., and on Wednesday, December 6, 2006, from 8:30 a.m. until approximately 3:30 p.m. in the Mt. Vernon Rooms A and B at The Madison, 1177 Fifteenth Street, NW., Washington, DC 20005. You may call the hotel at (202) 862-1600 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Francesca Paris-Albertson, Executive Director of the National Advisory Committee on Institutional Quality and Integrity, if you have questions about the meeting. You may contact her at the U.S. Department of Education, Room 7110, 1990 K St., NW., Washington, DC 20006, telephone: (202) 219-7009, fax: (202) 219-7008, e-mail: Francesca.Paris-Albertson@ed.gov. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the Criteria for Recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition and/or an expansion of an agency's scope of recognition, and the review of agencies that have submitted an interim report.

What Agencies Will the National Advisory Committee Review at the Meeting?

The following agencies will be reviewed during the December 4-6, 2006 meeting of the National Advisory Committee:

Nationally Recognized Accrediting Agencies

Petition for Renewal of Recognition That Includes a Contraction of the Scope of Recognition

1. American Occupational Therapy Association, Accreditation Council for Occupational Therapy Education. (Current scope of recognition: The accreditation of entry-level professional occupational therapy educational programs offering the Baccalaureate Degree, Post-baccalaureate Certificate, Professional Master's Degree, Combined Baccalaureate/Master's degree, and Doctoral Degree for the accreditation of occupational therapy assistant programs offering the Associate Degree or a Certificate; and for its accreditation of these programs offered via distance education.) (Requested scope of recognition: The accreditation of occupational therapy educational programs offering the professional master's degree, combined baccalaureate/master's degree, and occupational therapy doctorate (OTD) degree; the accreditation of occupational therapy assistant programs offering the associate degree or a certificate; and the accreditation of these programs offered via distance education.)

Petitions for Renewal of Recognition That Include an Expansion of the Scope of Recognition

1. The Association for Biblical Higher Education, Commission on Accreditation. (Current scope of recognition: The accreditation and preaccreditation (“Candidate for Accreditation”) of Bible colleges and institutes in the United States offering undergraduate programs.) (Requested scope of recognition: The accreditation and preaccreditation throughout the United States of institutions and programs of biblical higher education that award undergraduate certificates and degrees, and masters, and doctoral degrees including those programs offered via traditional and alternative [distance education] delivery systems.)

2. Commission on Collegiate Nursing Education. (Current scope of recognition: The accreditation of nursing education programs in the United States, at the baccalaureate and graduate degree levels.) (Requested scope of recognition: The accreditation of nursing programs in the United States, at the baccalaureate and graduate degree levels, including programs offering distance education.)

3. Distance Education and Training Council, Accrediting Commission. (Current scope of recognition: The accreditation of postsecondary institutions in the United States that offer degree programs primarily by the distance education method up through the first professional degree level, and are specifically certified by the agency as accredited for Title IV purposes; and the accreditation of postsecondary institutions in the United States not participating in Title IV that offer programs primarily by the distance education method up through the first professional degree level.) (Requested scope of recognition: The accreditation of postsecondary institutions in the United States that offer degree programs primarily by the distance education method from the associate up to and including the professional doctoral degree, and are specifically certified by the agency as accredited for Title IV purposes; and the accreditation of postsecondary institutions in the United States not participating in Title IV that offer programs primarily by the distance education method from the associates up through the professional doctoral degrees.)

4. Middle States Commission on Secondary Schools. (Current scope of recognition: The accreditation of institutions with postsecondary, non-degree granting career and technology programs in Delaware, Maryland, New Jersey, New York, Pennsylvania, the Commonwealth of Puerto Rico, the District of Columbia, and the U.S. Virgin Islands.) (Requested scope of recognition: The accreditation of institutions with postsecondary, non-degree granting career and technology programs in Delaware, Maryland, New Jersey, New York, Pennsylvania, the Commonwealth of Puerto Rico, the District of Columbia, and the Virgin Islands including programs offered all or in part via distance education modalities at those institutions.)

5. National League for Nursing Accrediting Commission. (Current scope of recognition: The accreditation in the United States of programs in practical nursing, and diploma, associate, baccalaureate and higher degree nurse education programs.) (Requested scope of recognition: The accreditation in the United States of programs in practical nursing, diploma, associate, baccalaureate and graduate degree nurse education programs including those that offer such programs via distance education.)

Petition for an Expansion of the Scope

1. Western Association of Schools and Colleges, Accrediting Commission for Schools. (Current scope of recognition: The accreditation and preaccreditation (“Candidate for Accreditation”) of adult and postsecondary schools that offer programs below the degree level in California, Hawaii, the United States territories of Guam and American Samoa, the Republic of Palau, the Federated States of Micronesia, the Commonwealth of the Northern Mariana Islands, and the Republic of the Marshall Islands.) (Requested scope of recognition: The accreditation and preaccreditation (“Candidate for Accreditation”) of adult and postsecondary schools that offer programs below the degree level in California, Hawaii, the United States territories of Guam and American Samoa, the Republic of Palau, the Federated States of Micronesia, the Commonwealth of the Northern Mariana Islands, and the Republic of the Marshall Islands; and the accreditation and preaccreditation of not-for-profit postsecondary non-degree-granting institutions in Alaska, Idaho, Montana, Nevada, Oregon, Utah, and Washington.)

Petitions for Renewal of Recognition

1. American Academy for Liberal Education. (Current and requested scope of recognition: The accreditation and preaccreditation (“Candidacy for Accreditation”) of institutions of higher education and programs within institutions of higher education throughout the United States that offer liberal arts degree(s) at the baccalaureate level or a documented equivalency.)

2. American Bar Association, Council of the Section of Legal Education and Admissions to the Bar. (Current and requested scope of recognition: The accreditation throughout the United States of programs in legal education that lead to the first professional degree in law, as well as freestanding law schools offering such programs.)

3. American Physical Therapy Association, Commission on Accreditation in Physical Therapy Education. (Current and requested scope of recognition: The accreditation and preaccreditation (“Candidate for Accreditation”) in the United States of physical therapist education programs leading to the first professional degree at the master's or doctoral level and physical therapist assistant education programs at the associate degree level and for its accreditation of such programs offered via distance education.)

4. American Veterinary Medical Association, Council on Education. (Current and requested scope of recognition: The accreditation and preaccreditation (“Reasonable Assurance”) in the United States of programs leading to professional degrees (D.V.M. or D.M.V.) in veterinary medicine.)

5. Association for Clinical Pastoral Education, Inc., Accreditation Commission. (Current and requested scope of recognition: The accreditation of both clinical pastoral education (CPE) centers and CPE and Supervisory CPE programs located within the United States and territories.)

6. Western Association of Schools and Colleges, Accrediting Commission for Senior Colleges and Universities. (Current and requested scope of recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

Interim Reports

(An interim report is a follow-up report on an accrediting agency's compliance with specific criteria for recognition.)

1. Council on Naturopathic Medical Education.

2. North Central Association Commission on Accreditation and School Improvement, Board of Trustees.

State Agencies Recognized for the Approval of Public Postsecondary Vocational Education

Renewal Petitions

1. Oklahoma Board of Career and Technology Education. (Current and requested scope of recognition: The approval of public postsecondary vocational education offered at institutions in the State of Oklahoma that are not under the jurisdiction of the Oklahoma State Regents for Higher Education.)

2. Pennsylvania State Board of Vocational Education, Bureau of Career and Technical Education.

Interim Reports

1. New York State Board of Regents (Public Postsecondary Vocational Education).

2. Puerto Rico State Agency for the Approval of Public Postsecondary Vocational, Technical Institutions and Programs.

State Agency Recognized for the Approval of Nurse Education

Petition for Renewal of Recognition

1. Maryland Board of Nursing.

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. National Defense University, Washington, DC (request to award a Master's in Arts in Strategic Security Studies degree).

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person identified earlier in this notice so that the request is received via mail, fax, or e-mail no later than October 2, 2006. Your request (no more than 6 pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the 6-page limit.

Please do not send materials directly to Committee members. Only materials submitted by the deadline to the contact person listed in this notice and in accordance with these instructions become part of the official record and are considered by the Committee in its deliberations. Documents received after the October 2, 2006 deadline will not be distributed to the National Advisory Committee for their consideration. Individuals making oral presentations may not distribute written materials at the meeting.

If I Cannot Attend the Meeting, Can I Submit Written Comments Regarding an Accrediting Agency in Lieu of Making an Oral Presentation?

This notice requests third-party oral testimony, not written comment. Requests for written comments on agencies that are being reviewed during this meeting were published in the Federal Register on July 26, 2006. The National Advisory Committee will receive and consider only written comments submitted by the deadline specified in the above-referenced Federal Register notice.

How Do I Request To Present Comments Regarding General Issues Rather Than Specific Accrediting Agencies?

At the conclusion of the meeting, the National Advisory Committee, at its discretion, may invite attendees to address the Committee briefly on issues pertaining to the functions of the Committee, which are listed earlier in this notice. If you are interested in making such comments, you should inform Ms. Paris-Albertson before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

James F. Manning,
Acting Assistant Secretary for Postsecondary Education.

[FR Doc. E6-14164 Filed 8-24-06; 8:45 am]

BILLING CODE 4000-01-P